NATIONAL SCIENCE FOUNDATION

Sunshine Act Meetings; National Science Board

The National Science Board's Committee on Strategy and Budget, Subcommittee on Facilities (SCF), pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: Friday, March 11, 2016 at 11:30 to 12:30 p.m. EST. Open session: 11:30 to 12:05 p.m.; closed session: 12:05 to 12:30 p.m.

PLACE: This meeting will be held by teleconference. A public listening line will be available for the open portion of the meeting. Members of the public must contact the Board Office [call 703-292-7000 or send an email message to nationalsciencebrd@nsf.gov] at least 24 hours prior to the teleconference for the public listening number. Please refer to the National Science Board Web site for additional information and schedule updates (time, place, subject matter or status of meeting) which may be found at http://www.nsf.gov/nsb/notices/.

STATUS: Partly open, partly closed.

MATTERS TO BE CONSIDERED:

Open meeting subjects: Chairman's remarks; planning for 2016 Annual Portfolio Review and white papers, and discussion of facility synopses.

Closed meeting subject: Discussion of LFO monthly facility reports.

CONTACT PERSON FOR MORE INFORMATION: The point of contact for this meeting is John Veysey, jveysey@nsf.gov).

Kyscha Slater-Williams,
Program Specialist.

[FR Doc. 2016-05246 Filed 3-4-16; 4:15 pm]

BILLING CODE 7555-01-P